DEPARTMENT OF COMMERCE

National Oceanic and Atmospheric Administration

RIN 0648-BD77

Fisheries of the Caribbean, Gulf of Mexico, and South Atlantic; Snapper-Grouper Fishery Off the South Atlantic States; Regulatory Amendment 17

AGENCY: National Marine Fisheries Service (NMFS), National Oceanic and Atmospheric Administration (NOAA), Commerce.

ACTION: Notice of Intent (NOI) to prepare a draft environmental impact statement (DEIS); request for comments; notice of scoping meetings.

SUMMARY: NMFS, Southeast Region, in collaboration with the South Atlantic Fishery Management Council (Council), intends to prepare a DEIS to describe and analyze a range of alternatives for management actions to be included in Regulatory Amendment 17 to the Fishery Management Plan (FMP) for the Snapper-Grouper Fishery of the South Atlantic Region (Regulatory Amendment 17). Regulatory Amendment 17 will consider alternatives to modify existing marine protected areas (MPAs) and establish new MPAs. The purpose of this NOI is to solicit public comments on the scope of issues to be addressed in the DEIS and to announce scoping meetings.

DATES: Written comments on the scope of issues to be addressed in the DEIS will be accepted until January 3, 2014.

ADDRESSES: You may submit comments on the amendment identified by “NOAA-NMFS-2013-0164” by any of the following methods:

• Electronic submissions: Submit electronic comments via the Federal e-Rulemaking Portal: http://www.regulations.gov. Go to www.regulations.gov/#!docketDetail;D=NOAA-NMFS-2013-0164, click the “Comment Now!” icon, complete the required fields, and enter or attach your comments.

• Mail: Submit written comments to Rick DeVictor, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Rick DeVictor, Southeast Regional Office, telephone: 727-824-5305, or email: rick.devictor@noaa.gov. Kim Iverson, Public Information Officer, South Atlantic Fisheries Management Council, 4055 Faber Place Drive, Suite 201, North Charleston, SC 29405; telephone: 843-571-4366, or email: kim.iverson@safmc.net.

SUPPLEMENTARY INFORMATION: The Council and NMFS have implemented annual catch limits, accountability measures, harvest prohibitions, and management measures for deep-water snapper-grouper species managed by the Council. Deep-water snapper-grouper species include speckled hind, warsaw grouper, snowy grouper, blueline tilefish, yellowedge grouper, misty grouper, queen snapper, and silk snapper. The intent of these measures is to prevent overfishing, rebuild the overfished stock of snowy grouper, and minimize bycatch to the extent practicable.

To reduce the anticipated bycatch mortality of speckled hind and warsaw grouper, Amendment 17B to the FMP prohibited all fishing for and possession of six deep-water snapper-grouper species (snowy grouper, blueline tilefish, yellowedge grouper, misty grouper, queen snapper, and silk snapper) beyond a depth of 240 ft (73 m) (75 FR 82280, December 30, 2010). Following the implementation of the deep-water fishing prohibition, the Council and NMFS were presented with a new analysis of catch data (June 1, 2011, SERO-LAPP-2011-06 Report) and the results of a study conducted by the state of North Carolina through an exempted fishing permit study. Based on that new information, the Council and NMFS, through Regulatory Amendment 11 to the FMP, removed the 240-ft (73-m) harvest prohibition on six deep-water snapper-grouper species (77 FR 27374, May 10, 2012) and concluded that other management measures would be more effective in reducing discard mortality of speckled hind and warsaw grouper and minimizing the socio-economic effects to deep-water snapper-grouper fishers.

The DEIS for Regulatory Amendment 17 would consider alternatives to modify existing MPAs and establish new MPAs. In 2009, through Amendment 14 to the FMP, the Council and NMFS implemented eight MPAs in the South Atlantic, where possession, retention, and fishing for all snapper-grouper species in the FMP is prohibited (74 FR 1621, January 13, 2009). The intent of the eight MPAs is to protect long-lived, deep-water snapper-grouper species, including speckled hind and warsaw grouper. Through Regulatory Amendment 17, the Council intends to further reduce bycatch mortality of speckled hind and warsaw grouper and increase protection to their deep-water habitat.

An NOI to prepare a DEIS for the Comprehensive Ecosystem-Based Amendment 3 (CE-BA 3) was published on May 23, 2012 (77 FR 30506). One proposed action in CE-BA 3 was to modify existing MPAs or to establish new ones; however, that action has since been moved to Regulatory Amendment 17. Since the publication of the CE-BA 3 NOI, the Council has held five public workshops in the spring and summer of 2012 to allow the public an opportunity to provide locations of catch and habitat for speckled hind and warsaw grouper. In addition, the Council convened meetings of an MPA Expert Workgroup in May 2012 and February 2013. The workgroup, comprised of fishermen and scientists, developed potential sites for MPA designation to further protect speckled hind and warsaw grouper based on available data. The workgroup presented their recommendations to the Council at the June 2012 and March 2013 Council meetings.

NMFS, in collaboration with the Council, will develop a DEIS to describe and analyze alternatives to address the management needs described above including the “no action” alternative. In accordance with NOAA's Administrative Order 216-6, Section 5.02(c), Scoping Process, NMFS, in collaboration with the Council, has identified preliminary environmental issues as a means to initiate discussion for scoping purposes only. The public is invited to attend scoping meetings (dates and addresses below) and provide written comments on the preliminary issues, which are identified as actions and alternatives in the Regulatory Amendment 17 scoping document. These preliminary issues may not represent the full range of issues that eventually will be evaluated in the DEIS. A copy of the Regulatory Amendment 17 scoping document is available at http://sero.nmfs.noaa.gov/sustainable_fisheries/s_atl/sg/index.html.

After the DEIS associated with Regulatory Amendment 17 is completed, it will be filed with the Environmental Protection Agency (EPA). After filing, the EPA will publish a notice of availability of the DEIS for public comment in the Federal Register. The DEIS will have a 45-day comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

The Council and NMFS will consider public comments received on the DEIS in developing the final environmental impact statement (FEIS), and before voting to submit the final amendment to NMFS for Secretarial review, approval, and implementation. NMFS will announce in the Federal Register the availability of the final amendment and FEIS for public review during the Secretarial review period, and will consider all public comments prior to final agency action to approve, disapprove, or partially approve the final amendment.

NMFS will announce, through a document published in the Federal Register, all public comment periods on the final amendment, its proposed implementing regulations, and the availability of its associated FEIS. NMFS will consider all public comments received during the Secretarial review period, whether they are on the final amendment, the proposed regulations, or the FEIS, prior to final agency action.

Scoping Meetings, Times, and Locations

All meetings will begin at 4 p.m. These meetings are physically accessible to people with disabilities. Requests for information packets or for sign language interpretation or other auxiliary aids should be directed to the Council office 3 days prior to the start of each meeting (see FOR FURTHER INFORMATION CONTACT).

Tuesday, January 21, 2014—Bay Watch Resort and Conference Center, 2701 South Ocean Boulevard, North Myrtle Beach, SC 29582, telephone: 843-272-4600.

Wednesday, January 22, 2014—DoubleTree by Hilton Atlantic Beach Oceanfront, 2717 West Fort Macon Road, Atlantic Beach, NC 28512, telephone: 252-240-1155.

Monday, January 27, 2014—Key West Marriott Beachside, 3841 North Roosevelt Boulevard, Key West, FL 33040, telephone: 305-296-8100.

Tuesday, January 28, 2014—Doubletree by Hilton Oceanfront, 2080 North Atlantic Avenue, Cocoa Beach, FL 32931, telephone: 321-783-9222.

Wednesday, January 29, 2014—Wyndham Jacksonville Riverwalk, 1515 Prudential Drive, Jacksonville, FL 32207, telephone: 904-396-5100.

Thursday, January 30, 2014—Mighty Eighth Air Force Museum, 175 Bourne Avenue, Pooler, GA 31322, telephone: 912-743-8888.

Authority: 16 U.S.C. 1801 et seq.

Dated: November 29, 2013.
Karen Abrams,
Acting Deputy Director, Office of Sustainable Fisheries, National Marine Fisheries Service.

[FR Doc. 2013-29024 Filed 12-3-13; 8:45 am]

BILLING CODE 3510-22-P